ENVIRONMENTAL PROTECTION AGENCY

[FRL-9530-3]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses To Agency Clearance Requests

OMB Approvals

EPA ICR Number 0155.11; Certification of Pesticide Applicators (Renewal); 40 CFR parts 152 and 171; was approved on 03/01/2013; OMB Number 2070-0029; expires on 02/28/2015; Approved without change.

EPA ICR Number 1899.07; NSPS for Hospital/Medical/Infectious Waste Incinerators; 40 CFR part 60 subparts A and Ce; and 40 CFR part 62 subparts A and HHH; was approved on 03/01/2013; OMB Number 2060-0422; expires on 03/31/2016; Approved without change.

EPA ICR Number 2436.02; Hazardous Chemical Reporting: Revisions to the Emergency and Hazardous Chemical Inventory Forms (Tier I and Tier II) (Final Rule); 40 CFR part 370; was approved on 03/01/2013; OMB Number 2050-0206; expires on 03/31/2016; Approved without change.

EPA ICR Number 1062.13; NSPS for Coal Preparation and Processing Plants; 40 CFR part 60 subparts A and Y; was approved on 03/08/2013; OMB Number 2060-0122; expires on 03/31/2016; Approved without change.

EPA ICR Number 2348.03; NESHAP for Paints and Allied Products Manufacturing Area Source Category; 40 CFR part 63 subparts A and CCCCCCC; was approved on 03/08/2013; OMB Number 2060-0633; expires on 03/31/2016; Approved without change.

EPA ICR Number 2352.03; NESHAP for Asphalt Processing and Asphalt Roofing Manufacturing; 40 CFR part 63 subparts A and AAAAAAA; was approved on 03/08/2013; OMB Number 2060-0634; expires on 03/31/2016; Approved without change.

EPA ICR Number 1052.10; NSPS for Fossil-Fuel-Fired Steam Generating Units; 40 CFR part 60 subparts A and D; was approved on 03/08/2013; OMB Number 2060-0026; expires on 03/31/2016; Approved without change.

EPA ICR Number 1066.07; NSPS for Ammonium Sulfate Manufacturing Plants; 40 CFR part 60 subparts A and PP; was approved on 03/10/2013; OMB Number 2060-0032; expires on 03/31/2016; Approved without change.

EPA ICR Number 1969.05; NESHAP for Miscellaneous Organic Chemical Manufacturing; 40 CFR part 63 subparts A and FFFF; was approved on 03/11/2013; OMB Number 2060-0533; expires on 03/31/2016; Approved without change.

EPA ICR Number 1730.09; NSPS for Hospital/Medical/Infectious Waste Incinerators; 40 CFR part 60 subparts A and Ec; was approved on 03/11/2013; OMB Number 2060-0363; expires on 03/31/2016; Approved without change.

EPA ICR Number 1772.06; EPA's ENERGY STAR Program in the Commercial and Industrial Sectors (Renewal); was approved on 03/11/2013; OMB Number 2060-0347; expires on 03/31/2016; Approved without change.

EPA ICR Number 1847.06; Emission Guidelines for Large Municipal Waste Combustors Constructed on or Before September 20, 1994; 40 CFR part 60 subparts A and Cb; was approved on 03/18/2013; OMB Number 2060-0390; expires on 03/31/2016; Approved without change.

EPA ICR Number 2317.02; Generator Standards Applicable to Laboratories Owned by Eligible Academic Entities (Renewal); 40 CFR part 262 subpart K; was approved on 03/18/2013; OMB Number 2050-0204; expires on 03/31/2016; Approved with change.

EPA ICR Number 2382.03; Identification of Non-Hazardous Secondary Materials That Are Solid Waste (Final Rule) (Revision); 40 CFR 260.22 and 260.31(c); was approved on 03/18/2013; OMB Number 2050-0205; expires on 03/31/2016; Approved without change.

EPA ICR Number 1801.11; NESHAP for the Portland Cement Manufacturing Industry; 40 CFR part 63, subparts A and LLL; was approved on 03/18/2013; OMB Number 2060-0416; expires on 03/31/2016; Approved without change.

EPA ICR Number 1692.07; NESHAP for Petroleum Refineries; 40 CFR part 63 subparts A and CC; was approved on 03/19/2013; OMB Number 2060-0340; expires on 03/31/2016; Approved with change.

EPA ICR Number 2207.05; Exchange Network Grants Progress Reports (Change form); was approved on 03/19/2013; OMB Number 2025-0006; expires on 04/30/2015; Approved with change.

EPA ICR Number 1849.06; Landfill Methane Outreach Program (Renewal); was approved on 03/19/2013; OMB Number 2060-0446; expires on 03/31/2016; Approved without change.

EPA ICR Number 1813.08; Regional Haze Regulations (Renewal); 40 CFR part 51; was approved on 03/19/2013; OMB Number 2060-0421; expires on 03/31/2016; Approved without change.

EPA ICR Number 0160.10; Pesticide Registration Application, Notification and Report for Pesticide Producing Establishments (Renewal); 40 CFR part 167; was approved on 03/19/2013; OMB Number 2070-0078; expires on 03/31/2016; Approved without change.

EPA ICR Number 0801.19; Requirements for Generators, Transporters, and Waste Management Facilities under the RCRA Hazardous Waste Manifest System (Renewal); 40 CFR parts 262-265; was approved on 03/20/2013; OMB Number 2050-0039; expires on 05/31/2015; Approved with change.

EPA ICR Number 0820.12; Hazardous Waste Generator Standards (Renewal); 40 CFR 262.34, 262.40(c), 262.43, 262.44(c), 262.53-262.57, 262.60, 265.190-265.193 and 265.196; was approved on 03/20/2013; OMB Number 2050-0035; expires on 10/31/2014; Approved without change.

EPA ICR Number 0586.12; TSCA Section 8(a) Preliminary Assessment Information Rule (PAIR); 40 CFR parts 712, 766, and 792; was approved on 03/28/2013; OMB Number 2070-0054; expires on 03/31/2016; Approved with change.

Short Term Extension of Expiration Date

EPA ICR Number 2334.03; NESHAP for Petroleum Refineries (Final Rule); a short term extension of the expiration date was granted by OMB on 03/01/2013; OMB Number 2060-0619; expires on 03/31/2013.

Comment Filed

EPA ICR Number 2463.01; Recordkeeping and Reporting for Diesel Fuel Produced by Transmix Producers (Direct Final); in 40 CFR 80.511(b)(4), 80.513, 80.572(d) and 597(d)(3)(ii); OMB filed comment on 03/01/2013.

John Moses,
Director, Collections Strategies Division.

[FR Doc. 2013-07889 Filed 4-4-13; 8:45 am]

BILLING CODE 6560-50-P